DEPARTMENT OF TRANSPORTATION

Federal Aviation Administration

14 CFR Part 39

[Docket No. FAA-2014-0006; Directorate Identifier 2013-NM-147-AD]

RIN 2120-AA64

Airworthiness Directives; Airbus Airplanes

AGENCY: Federal Aviation Administration (FAA), DOT.

ACTION: Supplemental notice of proposed rulemaking (NPRM); reopening of comment period.

SUMMARY: We are revising an earlier proposed airworthiness directive (AD) for all Airbus Model A330-200, A330-200 Freighter, A330-300, A340-200, and A340-300 series airplanes. The NPRM proposed to require inspecting certain trimmable horizontal stabilizer actuators (THSAs) to determine the number of total flight cycles the THSA has accumulated, and replacing the THSA if necessary. The NPRM was prompted by the results of endurance qualification tests on the THSA, which revealed a partial loss of the no-back brake (NBB) efficiency in specific load conditions. This action revises the NPRM by adding airplanes to the proposed applicability, reducing the proposed compliance times for replacing affected THSAs, and revising the definition of a serviceable THSA. We are proposing this supplemental NPRM (SNPRM) to detect and correct premature wear of the carbon friction disks on the NBB of the THSA, which could lead to reduced braking efficiency in certain load conditions, and, in conjunction with the inability of the power gear train to keep the ball screw in its last commanded position, could result in uncommanded movements of the trimmable horizontal stabilizer and loss of control of the airplane. Since these actions impose an additional burden over those proposed in the NPRM, we are reopening the comment period to allow the public the chance to comment on these proposed changes.

DATES: We must receive comments on this SNPRM by February 8, 2016.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2014-0006; or in person at the Docket Management Facility between 9 a.m. and 5 p.m., Monday through Friday, except Federal holidays. The AD docket contains this proposed AD, the regulatory evaluation, any comments received, and other information. The street address for the Docket Office (telephone: 800-647-5527) is in the ADDRESSES section. Comments will be available in the AD docket shortly after receipt.

FOR FURTHER INFORMATION CONTACT: Vladimir Ulyanov, Aerospace Engineer, International Branch, ANM-116, Transport Airplane Directorate, FAA, 1601 Lind Avenue SW., Renton, WA 98057-3356; telephone 425-227-1138; fax 425-227-1149.

SUPPLEMENTARY INFORMATION:

Comments Invited

We invite you to send any written relevant data, views, or arguments about this proposed AD. Send your comments to an address listed under the ADDRESSES section. Include “Docket No. FAA-2014-0006; Directorate Identifier 2013-NM-147-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

We issued a notice of proposed rulemaking (NPRM) to amend 14 CFR part 39 by adding an AD that would apply to all Airbus Model A330-200, A330-200 Freighter, A330-300, A340-200, and A340-300 series airplanes. The NPRM published in the Federal Register on February 3, 2014 (79 FR 6104). The NPRM was prompted by the results of endurance qualification tests on the THSA, which revealed a partial loss of the NBB efficiency in specific load conditions. The NPRM proposed to require inspecting certain THSAs to determine the number of total flight cycles the THSA had accumulated, and replacing the THSA if necessary.

Actions Since Previous NPRM (79 FR 6104, February 3, 2014) was Issued

Since we issued the NPRM (79 FR 6104, February 3, 2014), we have determined that additional airplanes are affected by the unsafe condition, the proposed compliance times for replacing affected THSAs should be reduced, and the definition of a serviceable THSA should be revised. The European Aviation Safety Agency (EASA), which is the Technical Agent for the Member States of the European Union, has issued EASA Airworthiness Directive 2014-0257R1, dated May 29, 2015 (referred to after this as the Mandatory Continuing Airworthiness Information, or “the MCAI”), to correct an unsafe condition on all Airbus Model A330-200, A330-200 Freighter, A330-300, A340-200, and A340-300 series airplanes; and Model A340-500 and A340-600 series airplanes. The MCAI states:

During endurance qualification tests on Trimmable Horizontal Stabilizer Actuator (THSA) of another Airbus aeroplane type, a partial loss of the no-back brake (NBB) efficiency was experienced. Due to THSA design similarity on the A330/A340 fleet, a similar partial loss of the NBB efficiency was identified on THSA Part Number (P/N) 47147 as installed on A330-300 and A340-200/-300 aeroplanes, on THSA P/N 47172 as installed on A330-200/-300 and A340-200/-300 aeroplanes, and on THSA P/N 47175 as installed on A340-500/600 aeroplanes.

Investigation results concluded that this partial loss of braking efficiency in some specific aerodynamic load conditions was due to polishing and auto-contamination of the NBB carbon friction disks.

This condition, if not detected and corrected and in conjunction with the power gear train not able to keep the ball screw in its last commanded position, could lead to uncommanded movements of the THS, possibly resulting in loss of control of the aeroplane.

To address this potential unsafe condition, EASA issued AD 2013-0144 [http://ad.easa.europa.eu/blob/easa_ad_2013_0144.zip/AD_2013-0144R1_2] to require replacement of each THSA that has exceeded 16,000 flight cycles (FC) in service, to be sent in shop for NBB carbon disk replacement.

Since that AD was issued, a need for clarification has been demonstrated, regarding the identification of the THSA `affected' by this requirement.

For this reason, EASA AD 2013-0144 [http://ad.easa.europa.eu/blob/easa_ad_2013_0144.zip/AD_2013-0144R1_2] was revised, confirming that this AD only affected those THSA identified by Part Number (P/N) in Airbus Alert Operator Transmission (AOT) A27L005-13. In addition, a note was added to make clear that the life limits as specified in the current revision of ALS Part 4 are still relevant for the affected THSA, as applicable to aeroplane model and THSA P/N.

Since EASA AD 2013-0144R1 [http://ad.easa.europa.eu/ad/2013-0144R1] was issued, further assessment of the ageing/endurance issue has resulted in the conclusion that there is a need to replace the NBB installed on the THSA.

Consequently, EASA issued AD 2014-0257 [http://ad.easa.europa.eu/blob/EASA_AD_2014_0257_R1.pdf/AD_2014-0257R1_1] which retained the requirements of EASA AD 2013-0144R1, which was superseded, and required removal from service of affected THSA. THSA should be sent in shop for NBB carbon disk replacement. This [EASA] AD affected additional THSA P/Ns when compared to EASA AD 2013-0144R1 and Airbus AOT A27L005-13.

Since that [EASA] AD was issued, it was determined that it is necessary to consider that the THSA removal for NBB disks replacement could also be calculated since last NBB disk replacement which was done in-shop.

This proposed AD also adds Model A340-541 and A340-642 airplanes to the applicability. You may examine the MCAI in the AD docket on the Internet at http://www.regulations.gov/#!documentDetail;D=FAA-2014-0006-0002.

Related Service Information Under 1 CFR part 51

Airbus has issued the following service information, dated July 15, 2014.

• Service Bulletin A330-27-3199 (for Model A330 series airplanes);

• Service Bulletin A340-27-4190 (for Model A340-200 and -300 series airplanes); and

• Service Bulletin A340-27-5062 (for Model A340-500 and -600 series airplanes).

The service information describes procedures for inspecting the THSA to determine the part number and replacing THSAs having certain part numbers with a new or serviceable part. This service information is reasonably available because the interested parties have access to it through their normal course of business or by the means identified in the ADDRESSES section of this NPRM.

Comments

We gave the public the opportunity to participate in developing this AD. We have considered the comments received. The following presents the comments received on the NPRM (79 FR 6104, February 3, 2014) and the FAA's response to each comment.

One commenter, Chris Vargas, supported the intent of the NPRM (79 FR 6104, February 3, 2014). Another commenter, Cameron Lane, restated the proposed costs and unsafe condition. We infer that this commenter supported the intent of the NPRM.

Request To Revise THSA Life Limits

US Airways stated that there is a conflict between the THSA life limits included in the NPRM (79 FR 6104, February 3, 2014) and the life limits included in the A330 Airworthiness Limitations. The commenter conveyed that it is concerned that operators would be unsure which life limits to follow. We infer that the commenter is requesting that the THSA life limits specified in the NPRM match those specified in the A330 Airworthiness Limitations.

The THSA life limits specified in this SNPRM are more restrictive than the life limits specified in the A330 Airworthiness Limitations for the parts identified in paragraphs (g)(1) and (g)(2) of this proposed AD. This SNPRM proposes to require a one-time replacement of an affected THSA with a serviceable part. Serviceable parts identified in paragraphs (g)(1) and (g)(2) of this proposed AD must not exceed the limits proposed in this SNPRM. Any serviceable part not identified in paragraph (g)(1) or (g)(2) of this proposed AD is subject to the life limits and maintenance tasks in the A330 Airworthiness Limitations. We have been notified by Airbus that the NBB life limits will be reduced in a revised Airworthiness Limitation. We might consider further rulemaking if new airworthiness limitations are issued. No change was made to this proposed AD regarding this issue.

Request To Assign Life Limit to Only the NBB Disks

US Airways requested that a life limit be assigned only to the NBB disks (part number FE194-031) and not the entire THSA. The commenter stated that the NBB disks are replaceable in the shop and the AD should not limit the life of the entire THSA.

We partially agree with the commenter's request. EASA has revised MCAI 2014-0257, dated November 27, 2014, to include life limit computations for an affected THSA from the most recent NBB inspection, in addition to the accumulated total flight cycles since the THSA's first installation on an airplane. The revised MCAI is 2014-0257R1, dated May 29, 2015. We have revised paragraphs (g), (h)(1), (h)(2), and (h)(3) of this proposed AD accordingly.

Request To Reduce the Compliance Time

Jennifer Paramski stated that the proposed compliance time in the NPRM (79 FR 6104, February 3, 2014) should be reduced because failure of the THSA is a substantial safety concern. The commenter stated that once the THSA has accumulated 16,000 total flight cycles, the airline has 30 months or 4,000 flight cycles to replace the part, and a lot can happen during that time because the part is sensitive to load conditions. The commenter interpreted the compliance time to replace the THSA as tiered and suggested that some airlines might try to extend the timeframe for THSA replacement because after 4,000 flight cycles from the initial 16,000 flights reached, an airline could argue that it should get an additional 1,500 flight cycles or 12 months to replace the part because of the second tier. The commenter explained that airlines would try to maximize the current part on all airplanes to try to maximize profit. The commenter emphasized that maximizing profits could jeopardize the safety of others, which, if there was an accident, would cause more monetary losses in the long run from lawsuits.

We do not agree that the compliance time should be reduced. The thresholds for THSA replacement are not tiered, as stated by the commenter. The replacement threshold is based on the accumulation of total flight cycles as of the effective date of the final rule. An airline cannot exceed the thresholds mandated in a final rule unless it requests an alternative method of compliance, issued by the FAA, using the procedures specified in paragraph (n)(1) of this proposed AD. However, we have clarified the compliance times in this SNPRM by revising paragraph (h) of this proposed AD and including a new paragraph (i). The subsequent paragraphs were redesignated accordingly.

FAA's Determination and Requirements of This SNPRM

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of these same type designs.

Certain changes described above expand the scope of the proposed AD (79 FR 6104, February 3, 2014). As a result, we have determined that it is necessary to reopen the comment period to provide additional opportunity for the public to comment on this SNPRM.

Explanation of Compliance Times

The MCAI requires operators to replace certain THSAs by certain dates. The replacements are done for THSAs exceeding a certain flight cycle limit corresponding to each date. EASA determined that accomplishing the replacements by these dates is necessary in order to address the identified unsafe condition. Therefore, we are also specifying compliance dates in this proposed AD.

Explanation of “RC” Procedures and Tests in Service Information

The FAA worked in conjunction with industry, under the Airworthiness Directive Implementation Aviation Rulemaking Committee (ARC), to enhance the AD system. One enhancement was a new process for annotating which procedures and tests in the service information are required for compliance with an AD. Differentiating these procedures and tests from other tasks in the service information is expected to improve an owner's/operator's understanding of crucial AD requirements and help provide consistent judgment in AD compliance. The procedures and tests identified as RC (required for compliance) in any service information have a direct effect on detecting, preventing, resolving, or eliminating an identified unsafe condition.

As specified in a NOTE under the Accomplishment Instructions of the specified service information, procedures and tests that are identified as RC in any service information must be done to comply with the proposed AD. However, procedures and tests that are not identified as RC are recommended. Those procedures and tests that are not identified as RC may be deviated from using accepted methods in accordance with the operator's maintenance or inspection program without obtaining approval of an alternative method of compliance (AMOC), provided the procedures and tests identified as RC can be done and the airplane can be put back in a serviceable condition. Any substitutions or changes to procedures or tests identified as RC will require approval of an AMOC.

Costs of Compliance

We estimate that this proposed AD affects 94 airplanes of U.S. registry.

We also estimate that it would take about 3 work-hours per product to comply with the new basic requirements of this proposed AD. The average labor rate is $85 per work-hour. Required parts would cost about $0 per product. Based on these figures, we estimate the cost of this proposed AD on U.S. operators to be $23,970, or $255 per product.

In addition, we estimate that any necessary follow-on actions would take about 23 work-hours and would require parts costing up to $722,556, for a cost of up to $724,511 per product. We have no way of determining the number of aircraft that might need this action.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus: Docket No. FAA-2014-0006; Directorate Identifier 2013-NM-147-AD.

(a) Comments Due Date

We must receive comments by February 8, 2016.

(b) Affected ADs

None.

(c) Applicability

This AD applies to the Airbus airplanes identified in paragraphs (c)(1) through (c)(7) of this AD, certificated in any category, all manufacturer serial numbers.

(1) Model A330-201, -202, -203, -223, and -243 airplanes.

(2) Model A330-223F and -243F airplanes.

(3) Model A330-301, -302, -303, -321, -322, -323, -341, -342, and -343 airplanes.

(4) Model A340-211, -212, and -213 airplanes.

(5) Model A340-311, -312, and -313 airplanes.

(6) Model A340-541 airplanes.

(7) Model A340-642 airplanes.

(d) Subject

Air Transport Association (ATA) of America Code 27, Flight Controls.

(e) Reason

This AD was prompted by the results of endurance qualification tests on the trimmable horizontal stabilizer actuator (THSA), which revealed a partial loss of the no-back brake (NBB) efficiency in specific load conditions. We are issuing this AD to detect and correct premature wear of the carbon friction disks on the NBB of the THSA, which could lead to reduced braking efficiency in certain load conditions, and, in conjunction with the inability of the power gear train unable to keep the ball screw in its last commanded position, could result in uncommanded movements of the trimmable horizontal stabilizer and loss of control of the airplane.

(f) Compliance

Comply with this AD within the compliance times specified, unless already done.

(g) Inspection To Determine THSA Part Number and Accumulated Total Flight Cycles

Within 90 days after the effective date of this AD: Inspect the THSA to determine if it has a part number that is specified in paragraph (g)(1) or (g)(2) of this AD, and to determine the total number of flight cycles accumulated since the THSA's first installation on an airplane, or since the most recent NBB replacement. A review of airplane delivery or maintenance records is acceptable in lieu of this inspection if the part number of the THSA can be conclusively determined from that review.

(1) For Model A330-200 Freighter, A330-200, A330-300, A340-200 and A340-300 series airplanes: Part number (P/N) 47147-500, 47147-700, 47172-300, 47172-500, 47172-510, or 47172-520.

(2) For Model A340-500 and -600 series airplanes: P/N 47175-200, 47175-300, 47175-500, or 47175-520.

(h) THSA Replacement for Airbus Model A330-200 Freighter, A330-200, A330-300, A340-200, and A340-300 Series Airplanes

For Airbus Model A330-200 Freighter, A330-200, A330-300, A340-200, and A340-300 series airplanes having a THSA with a part number specified in paragraph (g)(1) of this AD: At the applicable time specified in paragraph (h)(1), (h)(2), or (h)(3) of this AD, replace each affected THSA with a serviceable THSA, in accordance with the Accomplishment Instructions of Airbus Service Bulletin A330-27-3199, dated July 15, 2014; or Airbus Service Bulletin A340-27-4190, dated July 15, 2014; as applicable.

Note 1 to paragraphs (h), (i), and (j) of this AD: The THSA life limits specified in Part 4—Aging System Maintenance of the Airbus A330 and A340 Airworthiness Limitations Sections are still relevant, as applicable to airplane model and THSA part number.

(1) For a THSA that has accumulated or exceeded 20,000 total flight cycles since the THSA's first installation on an airplane, or since the most recent NBB replacement, whichever is later, as of the effective date of this AD: Within 6 months after the effective date of this AD.

(2) For a THSA that has accumulated or exceeded 16,000 total flight cycles, but less than 20,000 total flight cycles since the THSA's first installation on an airplane, or since the most recent NBB replacement, whichever is later, as of the effective date of this AD: At the applicable time specified in paragraphs (h)(2)(i) and (h)(2)(ii) of this AD.

(i) For Model A330-200 Freighter, A330-200, and A330-300 series airplanes: Within 12 months after the effective date of this AD but without exceeding 20,000 total flight cycles.

(ii) For Model A340-200, and A340-300 series airplanes: Within 12 months after the effective date of this AD but without exceeding 20,000 total flight cycles.

(3) For a THSA that has accumulated less than 16,000 total flight cycles since first installation on an airplane, or since the most recent NBB replacement, whichever is later, as of the effective date of this AD: At the applicable time specified in paragraph (i) of this AD.

(i) Replacement Times for Airbus Model A330-200 Freighter, A330-200, A330-300, A340-200, and A340-300 Series Airplanes With THSAs Having Less Than 16,000 Total Flight Cycles as of the Effective Date of This AD

The requirements of this paragraph apply to Airbus Model A330-200 Freighter, A330-200, A330-300, A340-200, and A340-300 series airplanes having a THSA with a part number specified in paragraph (g)(1) of this AD that has accumulated less than 16,000 total flight cycles since first installation on an airplane, or since the most recent NBB replacement, whichever is later, as of the effective date of this AD. Not later than the date specified in paragraphs (i)(1), (i)(2), and (i)(3) of this AD, as applicable: For any THSA having reached or exceeded on that date the corresponding number of total flight cycles as specified in paragraphs (i)(1), (i)(2), and (i)(3) of this AD, as applicable, replace the THSA with a serviceable unit in accordance with the Accomplishment Instructions of Airbus Service Bulletin A330-27-3199, dated July 15, 2014; or Airbus Service Bulletin A340-27-4190, dated July 15, 2014; as applicable.

(1) As of 12 months after the effective date of this AD: The THSA flight-cycle limit (since first installation on an airplane, or since last NBB replacement, whichever occurs later) is 16,000 total flight cycles.

(2) As of July 31, 2017: The THSA flight-cycle limit (since first installation on an airplane, or since last NBB replacement, whichever occurs later) is 14,000 total flight cycles.

(3) As of July 31, 2018: The THSA flight-cycle limit (since first installation on an airplane, or since last NBB replacement, whichever occurs later) is 12,000 total flight cycles.

(j) THSA Replacement for Airbus Model A340-500 and -600 Series Airplanes

For Airbus Model A340-500 and A340-600 series airplanes having a THSA with a part number specified in paragraph (g)(2) of this AD: Not later than the date specified in paragraphs (j)(1), (j)(2), (j)(3), and (j)(4) of this AD, as applicable: For any THSA having reached or exceeded on that date the corresponding number of total flight cycles as specified in paragraphs (j)(1), (j)(2), (j)(3), and (j)(4) of this AD, as applicable, replace each affected THSA with a serviceable THSA, in accordance with the Accomplishment Instructions of Airbus Service Bulletin A340-27-5062, dated July 15, 2014.

(1) As of the effective date of this AD: The THSA flight-cycle limit (since first installation on an airplane, or since last NBB replacement, whichever occurs later) is 6,000 total flight cycles.

(2) As of April 30, 2017: The THSA flight-cycle limit (since first installation on an airplane, or since last NBB replacement, whichever occurs later) is 5,200 total flight cycles.

(3) As of April 30, 2018: The THSA flight-cycle limit (since first installation on an airplane, or since last NBB replacement, whichever occurs later) is 4,400 total flight cycles.

(4) As of April 30, 2019: The THSA flight-cycle limit (since first installation on an airplane, or since last NBB replacement, whichever occurs later) is 3,500 total flight cycles.

(k) THSA Replacement Intervals for All Airbus Airplanes Identified in Paragraph (c) of This AD

For any part installed as required by this AD having a part number identified in paragraph (g)(1) or (g)(2) of this AD: From the dates specified in paragraphs (i) and (j) of this AD, as applicable, and prior to exceeding the accumulated number of total flight cycles corresponding to each time, replace each affected THSA with a serviceable part, in accordance with the Accomplishment Instructions of the applicable service information identified in paragraphs (k)(1), (k)(2), and (k)(3) of this AD.

(1) Airbus Service Bulletin A330-27-3199, dated July 15, 2014.

(2) Airbus Service Bulletin A340-27-4190, dated July 15, 2014.

(3) Airbus Service Bulletin A340-27-5062, dated July 15, 2014.

(l) Definition of Serviceable THSA

For the purposes of this AD a serviceable THSA is a THSA:

(1) Having a part number identified in paragraph (g)(1) or (g)(2) of this AD that has not exceeded any of the total accumulated flight cycles identified in paragraphs (i)(1) through (i)(3) of this AD, or paragraphs (j)(1) through (j)(4) of this AD, as applicable; or

(2) Having a part number that is not identified in paragraph (g)(1) or (g)(2) of this AD.

(m) Parts Installation Limitation

From each date specified in paragraphs (i)(1), (i)(2), and (i)(3) of this AD, and paragraphs (j)(1) through (j)(4) of this AD, as applicable, a THSA having a part number identified in paragraph (g)(1) or (g)(2) of this AD may be installed on any airplane, provided the THSA has not exceeded the corresponding number of accumulated total flight cycles.

(n) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA, 1601 Lind Avenue SW., Renton, WA 98057-3356; telephone 425-227-1138; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, International Branch, ANM-116, Transport Airplane Directorate, FAA; or the European Aviation Safety Agency (EASA); or Airbus's EASA Design Organization Approval (DOA). If approved by the DOA, the approval must include the DOA-authorized signature.

(3) Required for Compliance (RC): If any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(o) Related Information

(1) Refer to Mandatory Continuing Airworthiness Information (MCAI) EASA Airworthiness Directive 2014-0257R1, dated May 29, 2015, for related information. This MCAI may be found in the AD docket on the Internet at http://www.regulations.gov/#!documentDetail;D=FAA-2014-0006-0002.

(2) For service information identified in this AD, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com. You may view this service information at the FAA, Transport Airplane Directorate, 1601 Lind Avenue SW., Renton, WA. For information on the availability of this material at the FAA, call 425-227-1221.

Issued in Renton, Washington, on October 30, 2015.
Jeffrey E. Duven,
Manager, Transport Airplane Directorate, Aircraft Certification Service.

[FR Doc. 2015-30822 Filed 12-22-15; 8:45 am]

BILLING CODE 4910-13-P